DEPARTMENT OF COMMERCE

International Trade Administration

[C-570-931]

Circular Welded Austenitic Stainless Pressure Pipe From the People's Republic of China: Notice of Amended Preliminary Countervailing Duty Determination

AGENCY: Import Administration, International Trade Administration, Department of Commerce.

SUMMARY: On July 10, 2008, the Department of Commerce (the Department) published in the Federal Register the notice of preliminary affirmative countervailing duty determination in the investigation of circular welded austenitic stainless pressure pipe (CWASPP) from the People's Republic of China (the PRC). We are amending our preliminary determination to correct ministerial errors discovered with respect to the countervailing duty rate calculated for Winner Stainless Steel Tube Co., Ltd. (Winner), Winner Machinery Enterprise Company Ltd. (Winner HK), and Winner Steel Products (Guangzhou) Co., Ltd. (WSP) (collectively the Winner Companies). This correction also affects the countervailing duty rate applied to Froch Enterprises Co. Ltd. (Froch) (also known as Zhangyuan Metal Industry Co. Ltd.) as well as the rate applied to all other companies not individually investigated.

DATES: Effective Date: See discussion below.

FOR FURTHER INFORMATION CONTACT: Robert Copyak, or Eric B. Greynolds, AD/CVD Operations, Office 3, Import Administration, International Trade Administration, U.S. Department of Commerce, 14th Street and Constitution Avenue, NW., Washington, DC 20230; telephone: (202) 482-2209 and (202) 482-6071, respectively.

SUPPLEMENTARY INFORMATION:

Background

On July 10, 2008, we published in the Federal Register the preliminary determination that countervailable subsidies are being provided to producers and exporters of CWASPP from the PRC, as provided under section 703 of the Tariff Act of 1930, as amended (the Act). See Circular Welded Austenitic Stainless Pressure Pipe from the People's Republic of China: Preliminary Affirmative Countervailing Duty Determination and Alignment of Final Countervailing Duty Determination with Final Antidumping Duty Determination, 73 FR 39657 (July 10, 2008) (Preliminary Determination). On July 15, 2008, the Winner Companies filed timely allegations of significant ministerial errors contained in the Department's Preliminary Determination. After reviewing the allegations, we have determined that the Preliminary Determination included significant ministerial errors as described under 19 CFR 351.224(g). Therefore, in accordance with 19 CFR 351.224(e), we have made changes, as described below, to the Preliminary Determination.

Scope of the Investigation

The merchandise covered by this investigation is circular welded austenitic stainless pressure pipe not greater than 14 inches in outside diameter. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications.

Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A-269, ASTM A-270 or comparable domestic or foreign specifications.

The subject imports are normally classified in subheadings 7306.40.5005, 7306.40.5040, 7306.40.5062, 7306.40.5064, and 7306.40.5085 of the Harmonized Tariff Schedule of the United States (HTSUS). They may also enter under HTSUS subheadings 7306.40.1010, 7306.40.1015, 7306.40.5042, 7306.40.5044, 7306.40.5080, and 7306.40.5090. The HTSUS subheadings are provided for convenience and customs purposes only; the written description of the scope is dispositive.

Analysis of Alleged Significant Ministerial Errors

A ministerial error is defined in 19 CFR 351.224(f) as “an error in addition, subtraction, or other arithmetic function, clerical error resulting from inaccurate copying, duplication, or the like, and any other similar type of unintentional error which the Secretary considers ministerial.” With respect to preliminary determinations, 19 CFR 351.224(e) provides that the Department “will analyze any comments received and, if appropriate, correct any significant ministerial error by amending the preliminary determination * * *” A significant ministerial error is defined as an error, the correction of which, singly or in combination with other errors, would result in: (1) A change of least five absolute percentage points in, but not less than 25 percent of the countervailable subsidy rate calculated in the original (erroneous) preliminary determination; or (2) a difference between a countervailable subsidy rate of zero (or de minimis) and a countervailable subsidy rate of greater than de minimis or vice versa. See 19 CFR 351.224(g). We have determined that the Preliminary Determination contained “significant” ministerial errors with respect to the Winner Companies and that these ministerial errors, in turn, affected the countervailing duty rate applied to Froch as well as the rate applied to all other companies not individually investigated.¹ As a result, the Department is publishing this amendment to its preliminary determination pursuant to 19 CFR 351.224(e).

¹ We are adjusting the countervailing duty rate applied to Froch because the corrected rate for Winner is an integral component of the rate for Froch.

Amended Preliminary Determination

Because the combined errors alleged by the Winner Companies regarding the countervailable subsidy rate calculation for the Winner Companies were significant, we have amended the preliminary countervailing duty rate calculations for the Winner Companies. We have also amended the preliminary countervailing duty rate calculations for Froch as well as the rate applied to all other companies not individually investigated. See Memorandum to Stephen J. Claeys, Deputy Assistant Secretary for Import Administration, through Melissa G. Skinner, Director, Office 3, Operations, from Eric B. Greynolds, Program Manager, Office 3, Operations, regarding “Preliminary Determination Ministerial Error Allegations” (July 22, 2008), a proprietary document of which the public version is on file in the Central Records Unit (CRU), room 1117 in the main Department building. As a result of the corrections of the ministerial errors, the countervailable subsidy rates are as follows:

Producer/exporter | Original net subsidy rate | Amended net subsidy rate
Winner Stainless Steel Tube Co., Ltd (Winner), Winner Machinery Enterprise Company Ltd, (Winner HK), and Winner Steel Products (Guangzhou) Co., Ltd. (WSP) (collectively the Winner Companies) | 1.47 percent ad valorem | 0.35 percent ad valorem (de minimis).
Froch Enterprises Co. Ltd. (Froch) (also known as Zhangyuan Metal Industry Co. Ltd.) | 106.85 percent ad valorem | 105.73 percent ad valorem.
All Others Rate | 1.47 percent ad valorem | 53.04 percent ad valorem.

The collection of bonds or cash deposits and suspension of liquidation will be revised accordingly and parties will be notified of this determination, in accordance with section 703(d) and (f) of the Act. Specifically, since the amended preliminary determination is negative with respect to the Winner Companies, we are directing U.S. Customs and Border Patrol (CBP) to terminate suspension of liquidation of all entries of CWASPP produced and exported by the Winner Companies entered or withdrawn from warehouse for consumption on or after July 10, 2008, the publication date of the Preliminary Determination, and to release any bond or other security, and refund any cash deposit. In accordance with sections 703(d)(1)(B) and (2) of the Act, we are directing CBP to continue to suspend liquidation of all other entries of CWASPP from the PRC that are entered, or withdrawn from warehouse, for consumption on or after July 10, 2008.

With respect to Froch, we are directing CBP to require a cash deposit or bond for such entries of subject merchandise in the amount indicated above that are entered, or withdrawn from warehouse, for consumption on or after July 10, 2008, and to grant a refund for any overcollection on such entries if the importer makes such a request pursuant to 19 U.S.C. 1520(a)(4).

Regarding the rate applied to all other companies not individually investigated, we are directing CBP to require a cash deposit or bond for such entries of subject merchandise in the amount indicated above that are entered, or withdrawn from warehouse, for consumption on or after the publication date of this amended preliminary determination in the Federal Register.

International Trade Commission Notification

In accordance with section 703(f) of the Act, we have notified the International Trade Commission (ITC) of our amended preliminary determination. If our final determination is affirmative, the ITC will make its final determination as to whether the domestic industry in the United States is materially injured, or threatened with material injury, by reason of imports of CWASPP from the PRC, or sales (or the likelihood of sales) for importation, of the subject merchandise within 45 days of our final determination. See Section 705(b)(2)(B) of the Act.

This determination is issued and published in accordance with sections 703(f) and 777(i) of the Act and 19 CFR 351.224(e).

Dated: July 30, 2008.
David M. Spooner,
Assistant Secretary for Import Administration.

[FR Doc. E8-18249 Filed 8-6-08; 8:45 am]

BILLING CODE 3510-DS-P